DEPARTMENT OF HOMELAND SECURITY

Coast Guard

33 CFR Part 117

[Docket No. USCG-2017-0878]

Drawbridge Operation Regulation; Pequonnock River, Bridgeport, CT

AGENCY: Coast Guard, DHS.

ACTION: Notice of deviation from drawbridge regulation.

SUMMARY: The Coast Guard has issued a temporary deviation from the operating schedule that governs the Stratford Avenue Bridge across the Pequonnock River, mile 0.1 at Bridgeport, Connecticut. This deviation is necessary to facilitate a planned inspection and will allow the owner to temporarily close the draw for five days from 7:30 a.m. to 5:00 p.m. daily.

DATES: This deviation is effective from 7:30 a.m. on December 4, 2017 to 5 p.m. on December 8, 2017.

ADDRESSES: The docket for this deviation, USCG-2017-0878, is available at http://www.regulations.gov. Type the docket number in the “SEARCH” box and click “SEARCH”. Click on Open Docket Folder on the line associated with this deviation.

FOR FURTHER INFORMATION CONTACT: If you have questions on this temporary deviation, call or email James L. Rousseau, Bridge Management Specialist, First District Bridge Branch, U.S. Coast Guard; telephone 617-223-8619, email James.L.Rousseau2@uscg.mil.

SUPPLEMENTARY INFORMATION: The owner of the bridge, the Connecticut Department of Transportation, requested a temporary deviation in order to facilitate planned inspection of the bridge including the entire counterweight sheave shaft/trunnion journal surfaces as well as machinery cross shaft disconnection and disassembly for associated components.

The Stratford Avenue Bridge across the Pequonnock River, mile 0.1, at Bridgeport, Connecticut is a lift bridge with a vertical clearance of 8 feet at mean high water and 14 feet at mean low water in the closed position. The existing drawbridge operating regulations are listed at 33 CFR 117.219(a).

This temporary deviation will allow the Stratford Avenue Bridge to remain closed each day from 7:30 a.m. to 5 p.m. beginning December 4, 2017 until December 8, 2017. The waterway is transited by small recreational vessels and commercial fishing vessels. Coordination with waterway users has indicated no objections to the proposed closure of the draw. Vessels that can pass under the bridge without an opening may do so at all times. The bridge will not be able to open for emergencies. There is no alternate route for vessels to pass.

The Coast Guard will also inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: September 27, 2017.
Christopher J. Bisignano,
Supervisory Bridge Management Specialist, First Coast Guard District.

[FR Doc. 2017-21068 Filed 9-29-17; 8:45 am]

BILLING CODE 9110-04-P